CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled Demographic Reporting Elements to the Office of Management and Budget (OMB) for review and approval in accordance with the Paperwork Reduction Act of 1995, Pub. L. 104-13, (44 U.S.C. Chapter 35). Copies of this ICR, with applicable supporting documentation, may be obtained by calling the Corporation for National and Community Service, Ms. Amy Borgstrom at (202) 606-6930. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on Wednesday, July 18, 2007. This comment period ended September 17, 2007. Four public comments were received from this Notice. Two commenters asked whether they would have to retain non-selected member applications. Two commenters requested clarification of the following terms: “disaster response certification,” “mentors,” “disaster preparedness and response,” and “children of incarcerated parents.” Grantees will not be required to retain non-selected member applications. Clarification will be provided to commenters and other stakeholders in the form of a Frequently Asked Question document that will be widely distributed, and posted on the Corporation Web site soon after this information collection is reviewed by OMB.

Description: The Corporation is seeking approval of the attached Demographic Elements for Reporting which will be used by grantees of the Corporation's AmeriCorps State and National in their annual reporting. The Demographic Reporting Elements will provide information for Corporation staff to monitor grantee progress, and to respond to requests from Congress and other stakeholders.

Type of Review: New Information Collection.

Agency: Corporation for National and Community Service.

Title: Demographic Reporting Elements.

OMB Number: None.

Agency Number: None.

Affected Public: Grantees of AmeriCorps State and National programs.

Total Respondents: 154.

Frequency: Annually.

Average Time per Response: 5 hours.

Estimated Total Burden Hours: 770 hours.

Total Burden Cost (capital/startup): None.

Total Burden Cost (operating/maintenance): None.

Dated: September 19, 2007.
Kristin McSwain,
Director, AmeriCorps State and National.

[FR Doc. E7-18903 Filed 9-25-07; 8:45 am]

BILLING CODE 6050-$$-P